DEPARTMENT OF HOUSING AND URBAN DEVELOPMENT

24 CFR Part 985

[Docket No. FR-4498-C-03]

RIN 2577-AC10

Technical Amendment to the Section 8 Management Assessment Program (SEMAP); Correction

AGENCY: Office of the Assistant Secretary for Public and Indian Housing, HUD.

ACTION: Correction.

SUMMARY: On December 3, 1999, HUD published a final rule amending its regulations for the Section 8 Management Assessment Program (SEMAP). The December 3, 1999 final rule adopted without change the amendments to the SEMAP regulations made by HUD's July 26, 1999 interim rule. The final rule also made several amendments to conform the SEMAP regulations to HUD's October 21, 1999 final rule implementing the statutory merger of the Section 8 tenant-based certificate and voucher programs. The purpose of this document is to make two typographical corrections to the December 3, 1999 final rule.

DATES: Effective Date: January 3, 2000.

FOR FURTHER INFORMATION CONTACT: Gerald J. Benoit, Director, Real Estate and Housing Performance Division, Office of Public and Indian Housing, Department of Housing and Urban Development, Room 4220, 451 Seventh Street, SW, Washington, DC 20410; telephone (202) 708-0477, extension 4069 (this is not a toll-free number). Hearing or speech impaired individuals may access this number via TTY by calling the toll-free Federal Information Relay Service at 1-800-877-8339.

SUPPLEMENTARY INFORMATION: On December 3, 1999 (64 FR 67982), HUD published a final rule amending its regulations for the Section 8 Management Assessment Program (SEMAP). The December 3, 1999 final rule adopted the amendments to the SEMAP regulations made by HUD's July 26, 1999 (64 FR 40496) interim rule. The July 26, 1999 interim rule made various technical amendments to the SEMAP regulations. The public comment period on the interim rule closed on September 24, 1999. No public comments were submitted on the interim rule. Accordingly, the December 3, 1999 final rule adopted the amendments made by the interim rule without change. The final rule became effective on January 3, 2000.

In addition to finalizing the July 26, 1999 interim rule, the December 3, 1999 final rule also made several amendments to conform the SEMAP regulations to HUD's October 21, 1999 (64 FR 56894) final rule implementing the statutory merger of the Section 8 tenant-based certificate and voucher programs into the new Housing Choice Voucher program (the regulations for this new program are codified at 24 CFR part 982).

The purpose of this document is to correct two typographical errors contained in the SEMAP regulations at 24 CFR part 985. Specifically, § 985.3 provides two incorrect percentages in the provisions regarding the rating of public housing agency (PHA) management performance. The corrections were intended to be part of the December 3, 1999 final rule, but were inadvertently omitted from that rule. This document makes the necessary correction to the December 3, 1999 final rule.

Accordingly, in the final rule entitled “Technical Amendment to the Section 8 Management Assessment Program (SEMAP),” FR Document 99-31440, beginning at 64 FR 67982, in the issue of Friday, December 3, 1999, the following corrections are made:

§ 985.5 [Corrected]

1. On page 67983, in the second column, amendatory instruction 2 is corrected by removing the word “and” after paragraph i., and adding new paragraphs k. and l. to read as follows:

k. In paragraph (l)(3)(i), revise the phrase “99 percent” to read “100 percent”; and

l. In paragraph (o)(3)(v), revise the phrase “70 percent” to read “79 percent.”

Dated: March 22, 2000.
Harold Lucas,
Assistant Secretary for Public and Indian Housing.

[FR Doc. 00-7640 Filed 3-29-00; 8:45 am]

BILLING CODE 4210-33-P